DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. 104-127), has scheduled a National Agricultural Research, Extension, Education, and Economics Advisory Board Meeting, July 25, 2000.

On Tuesday, July 25, the Advisory Board will sponsor a “Cutting-Edge Science and Technology Meeting” at Radisson Governor's Inn, Research Triangle Park, North Carolina. The objective of this meeting will be to heighten the understanding by the Advisory Board and USDA officials of cutting-edge science and advanced technologies that are not ordinarily considered to be part of the agricultural research portfolio, but are likely to have dramatic impacts on U.S. food, agriculture, and related natural resources. Distinguished speakers will present research in exciting key science and advanced technologies, and will discuss possible implications for agriculture. The Advisory Board members four focus areas are:

A. Information Technologies,

B. Biotechnology (including but not limited to genomics and proteinomics),

C. Nanotechnology, and

D. E-Commerce.

If you wish to be a speaker or to nominate a speaker for Advisory Board consideration, please forward speaker names, phone numbers, and a brief summary, outline, or similar indication of their latest work in one of the four topic areas above to the contact person below. Names for speakers will be reviewed and final selections will be made by the Advisory Board and its Executive Committee. There will be a reception from 6 p.m. to 9 p.m. on Monday evening, July 24, at the Radisson Governor's Inn, where members of the Advisory Board will have an opportunity to interact with speakers and the general public. The “Cutting-Edge Science and Technology Meeting” will begin promptly at 9 a.m. on Tuesday, July 25, and continue until approximately 4:30 p.m. At 4:30 p.m, there is an optional tour of North Carolina State University's Genetics Science Center. On the morning of Wednesday, July 26, at 9 a.m., the Advisory Board members and guests will tour areas of the Research Triangle Park facilities that would be of interest to agricultural-related topics. The second tour will end around noon with return of the members to the Radisson Governor's Inn. This entire meeting will be open to the public. After members and speakers are boarded, the tours will be available to guests on a first come basis as space allows on the buses. No travel expenses will be provided to speaker not on the agenda. Public comments will be welcome near the end of the full-day meeting (July 25), as noted on a forthcoming agenda. Also written comments will be accepted for public record up to 2 weeks following the Board meeting. Final agenda will be available to the public prior to the meeting.

DATES: July 24—6:00 p.m. to 9:00 p.m.—Reception with the Advisory Board.

July 25—9:00 a.m. to 4:30 p.m.—General Session; 4:30 p.m. to 7:00 p.m.—North Carolina State University; Tour (1½ hours at NCSU).

July 26—9:00 a.m. to Noon—Tour of Research Triangle Park Facilities.

PLACE: Radisson Governor's Inn (Rooms to be announced), I-40, Exit 280, Davis Drive, Research Triangle Park, North Carolina.

Type of Meeting: Open to the public.

Comments: The public may file written comments before or after the meeting with the contact person. All statements will become a part of the official records of the National Agricultural Research, Extension, Education, and Economics Advisory Board and will be kept on file for public review in the Office of the Advisory Board; Research, Education, and Economics; U.S. Department of Agriculture; Washington, DC 20250-2255.

FOR FURTHER INFORMATION CONTACT: Deborah Hanfman, Executive Director, National Agricultural Research, Extension, Education, and Economics Advisory Board, Research, Education, and Economics Advisory Board Office, Room 344A Jamie L. Whitten Building, U.S. Department of Agriculture, STOP: 2255, 1400 Independence Avenue, SW, Washington, DC 20250-2255. Telephone: 202-720-3684, Fax: 202-720-6199, or e-mail: lshea@reeusda.gov.

Done at Washington, DC this 12th day of May 2000.
I. Miley Gonzalez,
Under Secretary, Research, Education, and Economics.

[FR Doc. 00-16059 Filed 6-26-00; 8:45 am]

BILLING CODE 3410-22-P